DEPARTMENT OF COMMERCE

National Oceanic and Atmospheric Administration

RIN 0648-XE09

Fisheries of the Exclusive Economic Zone Off Alaska; Groundfish Observer Program; Notice of Observer Program Public Workshop

AGENCY: National Marine Fisheries Service (NMFS), National Oceanic and Atmospheric Administration (NOAA), Commerce.

ACTION: Notification of public workshop.

SUMMARY: NMFS will present a public workshop on the implementation of new Alaska groundfish observer sampling protocols for fishery participants and other interested parties. At the workshop, NMFS will provide an overview of the changes to observer sampling protocols, discuss alterations made in the observer electronic data submission and communications system, and answer questions. NMFS is conducting this public workshop to provide assistance to fishery participants in understanding the sampling protocols which will be used by groundfish observers in 2008 and beyond.

DATES: The workshop will be held on Tuesday, December 11, 2007, from 10 a.m. to 1 p.m. Pacific standard time.

ADDRESSES: The workshop will be held at the Nordic Heritage Museum, 3014 NW 67th Street, Seattle, WA 98117.

FOR FURTHER INFORMATION CONTACT: Jennifer Ferdinand, 206-526-4076 or Jennifer.Ferdinand@noaa.gov.

SUPPLEMENTARY INFORMATION: Groundfish fisheries in waters of the Gulf of Alaska (GOA) and Bering Sea and Aleutian Islands management area (BSAI) are managed under quotas set annually for groundfish species and for several other species that the groundfish fishery is prohibited from retaining. These quotas may be apportioned among areas, seasons, gear types, processor and catcher vessel sectors, cooperatives, and individual fishermen. Both retained and discarded catch are credited against these annual quotas, which generally are based on stock assessments generated principally by NMFS and on recommendations from the North Pacific Fishery Management Council. NMFS' Alaska Region is responsible for monitoring the progress of fisheries toward attainment of these quotas and allocations, and for closing the fisheries when quotas are reached. Stock assessments, quota monitoring, and management require collection of data from the fishery to account for all groundfish and prohibited species catch, including the portion of the catch that is discarded. North Pacific groundfish observers aboard vessels and at shoreside or floating stationary processors collect the data necessary for these purposes.

The Alaska Fisheries Science Center's groundfish observer program has embarked on an ambitious set of observer data collection changes for implementation in the 2008 fishing year. The new sampling procedures eliminate much of the need for observers to summarize and calculate information at sea and take steps to ensure all data points are recorded at the level from which they are observed.

NMFS is conducting a public workshop to provide assistance to fishery participants in reviewing the new observer sampling protocols and the changes that were necessary to the observer electronic data submission and communications system. Additionally, NMFS will answer questions from workshop participants. For further information on the groundfish observer program, please visit the NMFS Alaska Fisheries Science Center website at http://www.afsc.noaa.gov/FMA/.htm.

Special Accommodations

This workshop is physically accessible to people with disabilities. Requests for special accommodations should be directed to Jennifer Ferdinand (see FOR FURTHER INFORMATION CONTACT) before December 6, 2007.

Dated: November 21, 2007.
Emily H. Menashes
Acting Director, Office of Sustainable Fisheries, National Marine Fisheries Service.

[FR Doc. E7-23141 Filed 11-27-07; 8:45 am]

BILLING CODE 3510-22-S